DEPARTMENT OF THE INTERIOR

Bureau of Land Management

[MT-924-1430-ET; MTM 89170]

Public Land Order No. 7464; Withdrawal of Public Land To Aid in Reclamation of the Zortman-Landusky Mining Area; Montana

AGENCY: Bureau of Land Management, Interior.

ACTION: Public Land Order.

SUMMARY: This order withdraws 3,530.62 acres of public land from surface entry and mining for a period of 5 years to protect the reclamation of the Zortman-Landusky mining area. The land has been and will remain open to mineral leasing and mineral material disposal under the Materials Act.

EFFECTIVE DATE: October 5, 2000.

FOR FURTHER INFORMATION CONTACT: Sandra Ward, BLM Montana State Office, P.O. Box 36800, Billings, Montana 59107-6800, 406-896-5052, or Robert Padilla, BLM Lewistown Field Office, Box 1160, Lewistown, Montana 59457-1160, 406-538-1922.

By virtue of the authority vested in the Secretary of the Interior by Section 204 of the Federal Land Policy and Management Act of 1976, 43 U.S.C. 1714 (1994), it is ordered as follows:

1. Subject to valid existing rights, the following described land is hereby withdrawn from settlement, sale, location or entry under the general land laws, including the United States mining laws (30 U.S.C. Ch. 2 (1994)), but not from leasing under the mineral leasing laws or mineral material disposal under the Materials Act, to protect the reclamation of the Zortman-Landusky mining area:

Principal Meridian, Montana

T. 25 N., R. 24 E.,

Sec. 1, lot 13;

Sec. 10, lots 7 to 11, inclusive, and NE¼SE¼;

Sec. 11, lots 8 and 9;

Sec. 12, lots 8, 11, 12, 13, 17, 18, 19, 20 and 22, and SE¼SW¼;

Sec. 13, NE¼NE¼ and W½NW¼;

Sec. 14, lots 1 to 11, inclusive, E½NE¼, SW¼NE¼, and N½SE¼;

Sec. 15, lots 4 to 18, inclusive;

Sec. 21, E½NE¼, NE¼SE¼, and W½SE¼SE¼;

Sec. 22, lot 1, lots 3 to 7, inclusive, SE¼NE¼, W½NW¼, N½SW¼, E½SW¼SW¼, SE¼SW¼, N½SE¼, E½SE¼SE¼, NW¼SE¼SE¼, E½SW¼SE¼SE¼, and NW¼SW¼SE¼SE¼;

Sec. 23, N½.

T. 25 N., R. 25 E.,

Sec. 6, lots 13 to 17, inclusive, NE¼SW¼, and SE¼;

Sec. 7, lots 5 to 9, inclusive, lots 14, 17, 18, 22, 23, and 24, lots 26 to 31, inclusive, and NW¼NE¼;

Sec. 8, SW¼SW¼;

Sec. 16, lot 2, N½NW¼SW¼, N½SE¼NW¼SW¼, S½S½SW¼SW¼, NE¼SE¼SW¼, S½SE¼SW¼, and SW¼SE¼;

Sec. 17, lots 3 and 4, NE¼, E½NW¼, N½N½NE¼SE¼, N½NE¼NW¼SE¼, SW¼NE¼NW¼SE¼, W½NW¼SE¼, W½SE¼NW¼SE¼, W½NE¼SW¼SE¼, W½SW½SE¼, SE¼SW¼SE¼, and S½SE¼SE¼;

Sec. 18, lots 1 to 5, inclusive, lots 8, 9, and 10, and SW¼NE¼.

The area described contains 3,530.62 acres in Phillips County.

2. The withdrawal made by this order does not alter the applicability of those public land laws governing the use of the land under lease, license, or permit, or governing the disposal of their mineral or vegetative resources other than under the mining laws.

3. This withdrawal will expire 5 years from the effective date of this order unless, as a result of a review conducted before the expiration date pursuant to Section 204(f) of the Federal Land Policy and Management Act of 1976, 43 U.S.C. 1714(f) (1994), the Secretary determines that the withdrawal shall be extended.

Dated: September 18, 2000.
Sylvia V. Baca,
Assistant Secretary of the Interior.

[FR Doc. 00-25586 Filed 10-4-00; 8:45 am]

BILLING CODE 4310-DN-P